DEPARTMENT OF HEALTH AND HUMAN SERVICES

Centers for Disease Control and Prevention

[30Day-10-09CJ]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC, or by fax to (202) 395-5806. Written comments should be received within 30 days of this notice.

Proposed Project

Promoting HIV Testing among Low Income Heterosexual Young Adult Black Men—New—National Center for HIV/AIDS, Viral Hepatitis, STD, and TB Prevention (NCHHSTP), Centers for Disease Control and Prevention (CDC).

Background and Brief Description

The lifetime risk of acquiring HIV infection for black men is 1 in 16. Heterosexual transmission is the second highest category for HIV infection among black men, yet we know little about how to successfully access heterosexual black men with HIV prevention and testing messages. CDC is requesting OMB approval for 2 years to collect data for this 3-phase study. The data collection will take place in Queens and Brooklyn, New York.

The purpose of the proposed study is to elicit attitudes about HIV testing among a community-based sample of non-Hispanic black, heterosexual men, ages 18-25, who were recently arrested or who were recently released from jail/prison. The study will develop culturally-tailored and gender-specific educational materials that promote HIV testing among this population. The data collection process will take approximately 2 years.

There will be a screening for each phase, 30 respondents for the one-on-one, 300 respondents for the survey, and 40 for the focus group. In Phase 1, local investigators will conduct qualitative interviews with 20 non-Hispanic black, heterosexual men, ages 18-25, who were recently arrested or who were recently released from jail/prison and meet screening criteria. The interviews will identify their attitudes towards HIV testing, socio-cultural norms, and perceived behavioral control factors that influence HIV testing. The interviews will also elicit their opinions of how to promote HIV testing among their peers. Each interview will last approximately 1.5 hours. During Phase 2, the results from Phase I will be used to identify variables for a survey that will examine attitudes towards HIV testing, socio-cultural norms, and perceived behavioral control factors to HIV testing intentions and behaviors. The survey will include 250 non-Hispanic black heterosexual men, ages 18-25, who meet screening criteria. Each survey will last approximately 30 minutes.

During Phase 3, using Phase 1 and 2 results, educational materials promoting HIV testing among 24 non-Hispanic black heterosexual men will be developed and pilot tested in focus groups of young black men who meet screening criteria to evaluate the acceptability of the materials.

This study will provide important epidemiologic information useful for the development of HIV prevention interventions for young black men.

There is no cost to respondents except for their time. The estimated annualized burden hours are 265.

Estimate of Annualized Burden Hours
Type of respondents | Form name | Number of respondents | Number of responses per respondents | Average burden per responses (hours)
General public | Screener for one-on-one interviews | 30 | 1 | 10/60
General public | One-on-one interviews | 20 | 1 | 1.5
General public | Screener for surveys | 300 | 1 | 10/60
General public | Surveys | 250 | 1 | 30/60
General public | Screener for focus groups | 40 | 1 | 10/60
General public | Focus groups | 24 | 1 | 2

Dated: June 17, 2010.
Maryam I. Daneshvar,
Reports Clearance Officer, Centers for Disease Control and Prevention.

[FR Doc. 2010-15782 Filed 6-28-10; 8:45 am]

BILLING CODE 4163-18-P